DEPARTMENT OF DEFENSE

Office of the Secretary

[Docket ID: DoD-2015-OS-0090]

Defense Personal Property Program (DP3)

AGENCY: United States Transportation Command (USTRANSCOM), DoD.

ACTION: Notice.

SUMMARY: DoD has developed a Concept of Operations (CONOPS) to test expansion of the personal property volume move criteria to include select high-volume channel/traffic lanes. Under the pilot test, personal property shipments will be awarded both directions (to/from) by the responsible origin/destination Joint Personal Property Shipping Office (JPPSO) on the participating pilot lanes. The CONOPS was developed utilizing general traffic management principles in concert with the Defense Transportation Regulation (DTR) Part IV (DTR 4500.9R), and Government household goods tariff (400NG) (as amended).

DATES: Comments must be received on or before November 9, 2015.

ADDRESSES: Do not submit comments directly to the point of contact under FOR FURTHER INFORMATION CONTACT or mail your comments to any address other than what is shown in this section. Doing so will delay the posting of the submission. You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Jim Teague, United States Transportation Command, TCJ5/4-PI, 508 Scott Drive, Scott Air Force Base, IL 62225-5357; (618) 220-4803.

SUPPLEMENTARY INFORMATION: The pilot test CONOPS is available for review and comment on the USTRANSCOM Web site at http://www.transcom.mil/dtr/coord/coordpartivfrn.cfm. Request comments be submitted using the downloadable comment-matrix-format posted with the CONOPS. In furtherance of DoD's goal to develop and implement an efficient personal property program to facilitate quality movements for our military members and civilian employees, all business rules are developed in concert with the Military Services and Surface Deployment and Distribution Command.

Any subsequent modification(s) to the business rules will be published in the Federal Register and incorporated into the Defense Transportation Regulation (DTR) Part IV (DTR 4500.9R). The Government shall comply with the Small Business Act, 15 U.S.C. 644(a). These program requirements do not impose a legal requirement, obligation, sanction or penalty on the public sector, and will not have an economic impact of $100 million or more.

Additional Information

A complete version of the DTR is available via the Internet on the USTRANSCOM homepage at http://www.transcom.mil/dtr/part-iv/.

Dated: September 2, 2015.
Aaron Siegel,
Alternate OSD Federal Register Liaison Officer, Department of Defense.

[FR Doc. 2015-22524 Filed 9-4-15; 8:45 am]

BILLING CODE 5001-06-P